FEDERAL COMMUNICATIONS COMMISSION

Notice of Public Information Collection(s) Being Submitted for Review to the Office of Management and Budget

October 16, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 26, 2006. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@eop.omb.gov and to Judith-B.Herman@fcc.gov, Federal Communications Commission, Room 1-B441, 445 12th Street, SW., Washington, DC 20554 or an e-mail to PRA@fcc.gov. If you would like to obtain or view a copy of this information collection after the 60-day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION:

OMB Control Number: 3060-0678.

Title: Part 25 of the Commission's Rules Governing the Licensing of, and Spectrum Usage by Satellite Network Stations and Space Stations.

Form No.: FCC Form 312, including Schedule B; Schedule S.

Type of Review: Revision of a currently approved collection.

Respondents: Business or other for-profit.

Number of Respondents: 3,473.

Estimated Time per Response: .50-40 hours.

Frequency of Response: On occasion and annual reporting requirements and third party disclosure requirements.

Total Annual Burden: 42,136 hours.

Total Annual Cost: $610,644,061.

Privacy Act Impact Assessment: N/A.

Needs and Uses: The Commission will submit this revised information collection to OMB after this 60-day comment period to obtain the full three-year clearance from them.

The Federal Communications Commission (“Commission”), on its own motion, proposes to revise OMB Control No. 3060-0678 to add a section to the Application for Satellite Space and Earth Station Authorizations (FCC Form 312) which will enable satellite applicants to certify whether or not they are subject to geographic service or geographic coverage requirements and whether they will comply with the requirements. Currently, Section 25.148(c) of the Commission's rules requires Direct Broadcast Satellite (DBS) operators to provide service to Alaska and Hawaii if “technically feasible,” or to provide a technical analysis showing that such service is not technically feasible. In addition, some Mobile Satellite Service (MSS) operators and Non-geostationary Satellite Orbit Fixed Satellite Service (NGSO FSS) operators have similar geographic coverage requirements. For example, Ka-band NGSO FSS systems must provide service between 70° North Latitude and 55° South Latitude for at least 75 percent of every 24-hour period in accordance with Section 25.145(c)(1) of the Commission's rules. The Commission also proposes to require other applicants to provide this certification in the event that it expands its geographic rules, as proposed in two pending rulemakings. See 71 FR 43687 (Aug. 2, 2006); 71 FR 56923 (Sept. 28, 2006).

The addition of the certification will require modification of the FCC Form 312 which is housed in the International Bureau Filing System (“MyIBFS”), an electronic filing system. In 2005, the Commission received approval from the Office of Management and Budget (OMB) for mandatory electronic filing of all satellite and earth station applications. Therefore, all certifications must be filed with the Commission electronically in MyIBFS.

This collection is used by the Commission staff in carrying out its duties concerning satellite communications as required by Sections 301, 308, 309 and 310 of the Communications Act, 47 U.S.C. 301, 308, 309, 310. This collection is also used by the Commission staff in carrying out its duties under the World Trade Organizations (WTO) Basic Telecom Agreement. The information collection requirements accounted for in this collection are necessary to determine the technical and legal qualifications of applicants or licensees to operate a station, transfer or assign a license, and to determine whether the authorization is in the public interest, convenience and necessity. Without such information, the Commission could not determine whether to permit respondents to provide telecommunication services in the U.S. Therefore, the Commission would be unable to fulfill its statutory responsibilities in accordance with the Communications Act of 1934, as amended, and the obligations imposed on parties to the WTO Basic Telecom Agreement.

Federal Communications Commission.
Marlene H. Dortch,
Secretary.

[FR Doc. E6-17873 Filed 10-24-06; 8:45 am]

BILLING CODE 6712-01-P